DEPARTMENT OF ENERGY

Federal Energy Regulatory Commission

[Docket No. EG02-43-000, et al.]

UAE Mecklenburg Cogeneration LP, et al.; Electric Rate and Corporate Regulation Filings

December 11, 2001.

Take notice that the following filings have been made with the Commission:

1. UAE Mecklenburg Cogeneration LP

[Docket No. EG02-43-000]

Take notice that on December 4, 2001, UAE Mecklenburg Cogeneration LP (Mecklenburg) filed with the Federal Energy Regulatory Commission (Commission) an application for determination of exempt wholesale generator status pursuant to Part 365 of the Commission's regulations.

Mecklenburg is a Delaware limited partnership and a wholly-owned subsidiary of United American Energy Corp. Mecklenburg's facility, currently a Qualifying Facility under PURPA, is a 132 MW topping-cycle cogeneration plant consisting of two coal-fired power generation units.

Mecklenburg states that copies of the application were served upon the Securities and Exchange Commission and the Virginia State Corporation Commission.

Comment date: January 2, 2002, in accordance with Standard Paragraph E at the end of this notice. The Commission will limit its consideration of comments to those that concern the adequacy or accuracy of the application.

2. Midwest Independent Transmission System Operator, Inc.

[Docket Nos. ER01-123-005, ER01-786-001, ER01-966-003, ER99-3144-016 and EC99-80-016]

Take notice that on December 4, 2001, the Midwest Independent Transmission System Operator, Inc. (the Midwest ISO) tendered for filing revised pages to its Open Access Transmission Tariff (OATT), FERC Electric Tariff, Original Volume No. 1, which reflect that Schedule 13 (Super-Regional Rate Adjustment Charge) has been suspended, effective December 5, 2001, until such time as the Alliance RTO implements its OATT and the benefits of the non-pancaked Super Regional Rate methodology are available to Transmission Customers. The Midwest ISO submits that the suspension of its Schedule 13 effective date will result in the Midwest ISO charging customers for zonal rates that will only include the rates from Schedules 7, 8, and 9.

The Midwest ISO also seeks waiver of the Commission's regulations, 18 CFR 385.2010 (2000) with respect to service on all parties on the official service list in this proceeding. The Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's website at www.midwestiso.org under the heading “FERC Filings” for other interested parties in this matter. The Midwest ISO will provide hard copies to any interested parties upon request.

Comment date: December 27, 2001, in accordance with Standard Paragraph E at the end of this notice.

3. Pacific Gas and Electric Company and ETrans LLC

[Docket No. ER02-455-000]

Take notice that on November 30, 2001, ETrans LLC (ETrans) and Pacific Gas and Electric Company as the reorganized debtor (Reorganized PG&E) (together Applicants) submitted for filing the following unexecuted agreements: (i) A Back-to-back Agreement between ETrans and Reorganized PG&E, (ii) a Transmission Availability Agreement for Offsite Power Supply between ETrans and Electric Generation, LLC (Gen.), (iii) an Interconnection Agreement between ETrans Reorganized PG&E load serving facilities, (iv) an Interconnection Agreement between ETrans and Gen providing for the interconnection between ETrans and Gen's generation facilities, (v) an Interconnection Agreement between ETrans and Reorganized PG&E retained generation facilities, and (vi) an Interconnection Agreement between Reorganized PG&E and Gen providing for the interconnection between Reorganized PG&E distribution facilities and Gen's generation facilities (collectively, the Agreements). Applicants state that the Agreements have been established as part of the plan of reorganization filed by Pacific Gas and Electric Company under Chapter 11 of the United States bankruptcy Code.

ETrans and Reorganized PG&E state that they are serving a copy of their filing on each of the wholesale customers that are currently a party of an existing contract with PG&E, as well as on the California Public Utilities Commission.

Comment date: January 29, 2002, in accordance with Standard Paragraph E at the end of this notice.

4. Entergy Louisiana, Inc., Entergy Gulf States, Inc., Entergy Mississippi, Inc.

[Docket No. ER02-457-000]

Take notice that on November 29, 2001, Entergy Services, Inc., on behalf of Entergy Louisiana, Inc., Entergy Gulf States, Inc., and Entergy Mississippi, Inc., tendered revised agreements in compliance with the requirements of Order No. 614.

Comment date: December 20, 2001, in accordance with Standard Paragraph E at the end of this notice.

5. PacifiCorp

[Docket No. ER02-458-000]

Take notice that PacifiCorp on November 30, 2001, tendered for filing in accordance with 18 CFR part 35 of the Commission's rules and regulations, Replacement Service Agreements for Long-term Firm Transmission Service with IDACORP Energy LP (IDACORP) under PacifiCorp's FERC Electric Tariff, Third Revised Volume No. 11 (Tariff).

Copies of this filing were supplied to the Washington Utilities and Transportation Commission and the Public Utility Commission of Oregon.

Comment date: December 20, 2001, in accordance with Standard Paragraph E at the end of this notice.

6. Duke Energy Corporation

[Docket No.ER02-459-000]

Take notice that on December 3, 2001, Duke Energy Corporation (Duke) tendered for filing a Service Agreement with Exelon Power Team for Firm Transmission Service under Duke's Open Access Transmission Tariff. Duke requests that the proposed Service Agreement be permitted to become effective on January 1, 2002. Duke states that this filing is in accordance with part 35 of the Commission's regulations, 18 CFR part 35, and that a copy has been served on the North Carolina Utilities Commission.

Comment date: December 26, 2001, in accordance with Standard Paragraph E at the end of this notice.

7. Southern Company Services, Inc.

[Docket No. ER02-460-000]

Take notice that on December 3, 2001, Southern Company Services, Inc. (SCS), acting on behalf of Alabama Power Company, Georgia Power Company, Gulf Power Company, Mississippi Power Company, and Savannah Electric and Power Company (collectively Southern Companies), filed Revision No. 3 to the Agreement for Network Integration Transmission Service for Alabama Electric Cooperative, Inc. under Southern Companies Open Access Transmission Tariff to Add Delivery Points. Revision No. 3 provides that transmission service under the referenced service agreement (Service Agreement No. 225 under Southern Companies' Open Access Transmission Tariff (FERC Electric Tariff Original Volume No. 5)) is to be provided at two (2) new delivery points. Additionally, Revision No. 3 specifies the Direct Assignment Facility Charges for these additional delivery points.

Comment date: December 26, 2001, in accordance with Standard Paragraph E at the end of this notice.

8. Duke Energy Corporation

[Docket No.ER02-461-000]

Take notice that on December 3, 2001, Duke Energy Corporation (Duke) tendered for filing a Service Agreement with Duke Power for Firm Transmission Service under Duke's Open Access Transmission Tariff. Duke requests that the proposed Service Agreement be permitted to become effective on January 1, 2002. Duke states that this filing is in accordance with part 35 of the Commission's Regulations, 18 CFR part 35, and that a copy has been served on the North Carolina Utilities Commission.

Comment date: December 26, 2001, in accordance with Standard Paragraph E at the end of this notice.

9. American Electric Power Service Corporation

[Docket No. ER02-462-000]

Take notice that on December 3, 2001, American Electric Power Service (AEPSC) tendered for filing pursuant to § 35.15 of the Federal Energy Regulatory Commission's regulations, 18 CFR 35.15 (2000), a Notice of Cancellation of Service Agreement No. 302 between AEPSC as agent for Indiana Michigan Power Company and Duke Energy DeSoto, LLC under American Electric Power Operating Companies' Open Access Transmission Tariff (OATT).

AEPSC requests an effective date of February 2, 2002 for the cancellation. AEPSC serviced copies of the filing upon Duke Energy DeSoto, LLC c/o Duke Energy North America, LLC.

Comment date: December 26, 2001, in accordance with Standard Paragraph E at the end of this notice.

10. Commonwealth Edison Company

[Docket No. ER02-463-000]

Take notice that on December 3, 2001 Commonwealth Edison Company (ComEd) submitted for filing an unexecuted Service Agreement for Network Integration Transmission Service (NSA) and a Network Operating Agreement (NOA) between ComEd and Central Illinois Light Company (CILCO). These agreements govern ComEd's provision of network service to serve retail load under the terms of ComEd's Open Access Transmission Tariff (OATT). Copies of this filing were served on CILCO.

ComEd requests an effective date of November 4, 2001, and accordingly seeks waiver of the Commission's notice requirements.

Comment date: December 26, 2001, in accordance with Standard Paragraph E at the end of this notice.

11. Duke Energy Corporation

[Docket No.ER02-464-000]

Take notice that on December 3, 2001, Duke Energy Corporation (Duke) tendered for filing a Service Agreement with Duke Power for Firm Transmission Service under Duke's Open Access Transmission Tariff. Duke requests that the proposed Service Agreement be permitted to become effective on January 1, 2002. Duke states that this filing is in accordance with part 35 of the Commission's regulations, 18 CFR part 35, and that a copy has been served on the North Carolina Utilities Commission.

Comment date: December 26, 2001, in accordance with Standard Paragraph E at the end of this notice.

12. Elwood Marketing, LLC

[Docket No. ER02-465-000]

Take notice that on December 3, 2001, Elwood Marketing, LLC (Elwood) tendered for filing with the Federal Energy Regulatory Commission (Commission), a Notice of Cancellation of its Market-Based Rate Schedule, Rate Schedule FERC No. 1. Elwood requests an effective date of December 4, 2001.

Comment date: December 26, 2001, in accordance with Standard Paragraph E at the end of this notice.

13. New England Power Company

[Docket No. ER02-466-000]

Take notice that on December 3, 2001, New England Power Company (NEP) tendered for filing a Third Revised Service Agreement No. 23 between NEP and The Narragansett Electric Company (Narragansett) under NEP's FERC Electric Tariff, Original Volume No. 1. Service Agreement No. 23 has been revised to reflect the fact that, commencing on December 1, 2001, Narragansett will procure all of its requirements for wholesale standard offer service from other suppliers, and NEP will cease its supply of this service under Service Agreement No. 23. Narragansett will continue to take service under Service Agreement No. 23 for other purposes.

Comment date: December 26, 2001, in accordance with Standard Paragraph E at the end of this notice.

14. American Transmission Company LLC

[Docket No. ER02-467-000]

Take notice that on December 3, 2001, American Transmission Company (ATCLLC) tendered for filing with the Federal Energy Regulatory Commission (Commission) an executed Interconnection Agreement between itself and Commonwealth Edison Company. The Interconnection Agreement describes the general terms and conditions of interconnected operation between the parties.

ATCLLC requests an effective date coincident with its filing and waiver of the Commission's notice requirements in order to allow for economic transactions as they appear. Copies of the filing have been served on Commonwealth Edison Company, the Illinois Commerce Commission, the Public Service Commission of Wisconsin and the Michigan Public Service Commission.

Comment date: December 26, 2001, in accordance with Standard Paragraph E at the end of this notice.

15. Louisville Gas and Electric Company/Kentucky Utilities Company

[Docket No. ER02-468-000]

Take notice that on December 3, 2001, Louisville Gas and Electric Company (LG&E)/Kentucky Utilities (KU) (hereinafter Companies) tendered for filing an unexecuted unilateral Service Sales Agreement between Companies and EnergyUSA-TPC Corp. under the Companies' Rate Schedule MBSS.

Comment date: December 26, 2001, in accordance with Standard Paragraph E at the end of this notice.

16. Wisconsin Power & Light Company

[Docket No. ER02-469-000]

Take notice that on December 4, 2001, Wisconsin Power & Light Company (WPL) tendered for filing with the Federal Energy Regulatory Commission (Commission) new rates to be charged under its wholesale electric tariffs W-3A, PR-1, W-4A and DLM-1 to reflect the current cost of service incurred by WPL and its subsidiary South Beloit Water, Gas and Electric Company.

WPL has asked that the new rates become effective on April 22, 2002. In addition WPL requests cancellation of its bundled wholesale electric tariffs W-1, W-3 and W-4.

A copy of the filing has been served upon the Illinois Commerce Commission, the Public Service Commission of Wisconsin and the WPL wholesale electric customers affected by this filing.

Comment date: December 27, 2001, in accordance with Standard Paragraph E at the end of this notice.

17. Entergy Services, Inc.

[Docket No. ER02-470-000]

Take notice that on December 4, 2001, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and Shortleaf Energy Associates, LLC.

Comment date: December 27, 2001, in accordance with Standard Paragraph E at the end of this notice.

18. PJM Interconnection, L.L.C. and Rockland Electric Company

[Docket No. ER02-471-000]

Take notice that on November 30, 2001, PJM Interconnection, L.L.C. (PJM), and Rockland Electric Company (Rockland) submitted for filing a proposed change to the PJM Open Access Transmission Tariff for the purpose of stating a charge by Rockland for Scheduling, System Control and Dispatch Service under Schedule 1A of the PJM Tariff.

Copies of this filing were served upon all PJM members and each state electric utility regulatory commission in the PJM control area.

Comment date: December 21, 2001, in accordance with Standard Paragraph E at the end of this notice.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-31058 Filed 12-17-01; 8:45 am]

BILLING CODE 6717-01-P